SMALL BUSINESS ADMINISTRATION

[Declaration of Disaster #3540]

State of Nevada

Clark County and the contiguous counties of Lincoln and Nye in the State of Nevada; Mohave County in the State of Arizona; and San Bernardino and Inyo Counties in the State of California constitute a disaster area due to widespread flash flooding that occurred on August 19, 2003, in the City of Las Vegas and portions of Clark County. Applications for loans for physical damage as a result of this disaster may be filed until the close of business on November 3, 2003, and for economic injury until the close of business on June 4, 2004, at the address listed below or other locally announced locations: Small Business Administration, Disaster Area 4 Office, P.O. Box 13795,

Sacramento, CA 95853-4795.

The interest rates are:

| Percent
For Physical Damage:
Homeowners with credit available elsewhere | 5.125
Homeowners without credit available elsewhere | 2.562
Businesses with credit available elsewhere | 6.199
Businesses and non-profit organizations without credit available elsewhere | 3.100
Others (including non-profit organizations) with credit available elsewhere | 5.500
For Economic Injury: Businesses and small agricultural cooperatives without credit available elsewhere | 3.100

The number assigned to this disaster for physical damage is 354006 for Nevada; 354106 for Arizona; and 354206 for California. The number to this disaster for economic injury damage is 9W8400 for Nevada; 9W8500 for Arizona; and 9W8600 for California.

(Catalog of Federal Domestic Assistance Program Nos. 59002 and 59008.)
Dated: September 4, 2003.
Hector V. Barreto,
Administrator.

[FR Doc. 03-23278 Filed 9-11-03; 8:45 am]

BILLING CODE 8025-01-P